COMMITTEE FOR PURCHASE FROM PEOPLE WHO ARE BLIND OR SEVERELY DISABLED

Procurement List; Addition

AGENCY: Committee for Purchase From People Who Are Blind or Severely Disabled.

ACTION: Addition to the Procurement List.

SUMMARY: This action adds a product to the Procurement List that will be furnished by the nonprofit agency employing persons who are blind or have other severe disabilities.

DATES: Effective Date: 10/10/2011.

ADDRESSES: Committee for Purchase From People Who Are Blind or Severely Disabled, Jefferson Plaza 2, Suite 10800, 1421 Jefferson Davis Highway, Arlington, Virginia 22202-3259.

FOR FURTHER INFORMATION CONTACT: Patricia Briscoe, Telephone: (703) 603-7740, Fax: (703) 603-0655, or e-mail CMTEFedReg@AbilityOne.gov.

SUPPLEMENTARY INFORMATION:

Additions

On 6/17/2011 (76 FR 35415-35417), the Committee for Purchase From People Who Are Blind or Severely Disabled published notice of proposed addition to the Procurement List.

The Committee for Purchase From People Who Are Blind or Severely Disabled (Committee) operates pursuant to statutory and regulatory requirements. The Committee regulation at 41 CFR 51-2-4 states that for a commodity or service to be suitable for addition to the Procurement List each of the following criteria must be reviewed and determined satisfactory under Committee practice and procedure: Employment potential; nonprofit agency qualifications, capability, and level of impact on the current contractor for the commodity or service. The Javits-Wagner-O'Day (JWOD) Act requires that projects added to the Procurement List must be provided by qualified nonprofit agencies that employ people who are blind or severely disabled for not less than 75% of the direct hours required for the production or provision of products or services during each fiscal year.

Comments were received from the incumbent contractor that currently provides powder laundry detergent to the Government. The incumbent contractor indicated that it has a long established policy of employing people with disabilities. He indicated that two of the eight individuals employed in fulfillment of this product are people with disabilities. The contractor advises that loss of this project could jeopardize the continued employment of the two employees with disabilities. Comments were also received from two other sources. Both sources voiced support for the contractor's practice of hiring people with disabilities and asserted that the contractor should retain the opportunity to supply the product to the Government.

The Committee applauds and encourages the actions of this contractor to hire people with disabilities who deserve the same opportunity as all Americans to work, earn income and be productive members of society. The AbilityOne Program, which the Committee administers, exists to provide employment for people who are blind or whose significant disabilities make them unable to obtain or maintain employment on their own. In the case of the specific project under consideration, people who are blind will provide the labor associated with filling the detergent containers, as well as packaging the product for sale and delivery. This will maximize employment for individuals with the most barriers to competitive employment. As the product offered under the AbilityOne Program exceeds recent biobased standards, it is also more likely to be purchased by Federal agencies in compliance with the biobased preference regulations. The Committee has determined that this project meets all of the required criteria for suitability, consistent with its regulations, and will be provided by a qualified nonprofit agency that must employ people who are blind or severely disabled for not less than 75% for its direct labor hours each fiscal year. Therefore, employment opportunities for people who are blind or severely disabled are maximized through the addition of this project to the Procurement List.

After consideration of the material presented to it concerning capability of qualified nonprofit agency to provide the product and impact of the addition on the current or most recent contractors, the Committee has determined that the product listed below is suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organization that will furnish the product to the Government.

2. The action will result in authorizing the small entity to furnish the product to the Government.

3. There are no known regulatory alternatives which would accomplish the objectives of the Javits-Wagner-O'Day Act (41 U.S.C. 46-48c) in connection with the product proposed for addition to the Procurement List.

End of Certification

Accordingly, the following product is added to the Procurement List:

Product

NSN: 7930-01-490-7301—Detergent, Laundry, Biobased with Bleach, Powdered/7930-01-490-7301

NPA: Association for the Blind and Visually Impaired—Goodwill Industries of Greater Rochester, Rochester, NY.

Contracting Activity: General Services Administration, Fort Worth, TX.

Coverage: A-List for the Total Government Requirement as aggregated by the General Services Administration.

Patricia Briscoe,
Deputy Director, Business Operations (Pricing and Information Management).

[FR Doc. 2011-23107 Filed 9-8-11; 8:45 am]

BILLING CODE 6353-01-P